GENERAL SERVICES ADMINISTRATION

[Notice-MA-2017-08; Docket No. 2017-0002, Sequence No. 20]

Federal Travel Regulation (FTR); Requirement To Report Agency Travel, Transportation, and Relocation Data and Costs

AGENCY: Office of Government-wide Policy (OGP), General Services Administration (GSA).

ACTION: Notice of FTR Bulletin 18-02, Requirement to Report Agency Travel, Transportation, and Relocation Data and Costs.

SUMMARY: The purpose of this notice is to inform Federal agencies that FTR Bulletin 18-02, pertaining to the reporting of travel, transportation, and relocation data and costs is now available online at www.gsa.gov/ftrbulletin.

DATES: November 9, 2017.

FOR FURTHER INFORMATION CONTACT: Mr. Cy Greenidge, Office of Government-wide Policy, Office of Asset and Transportation Management, at 202-219-2349, or by email at travelpolicy@gsa.gov. Please cite Notice of FTR Bulletin 18-02.

Authority: 5 U.S.C. 5707(c).

Dated: October 27, 2017.
Allison Fahrenkopf Brigati,
Associate Administrator, Office of Government-wide Policy, General Services Administration.

[FR Doc. 2017-24258 Filed 11-8-17; 8:45 am]

BILLING CODE 6820-14-P